DEPARTMENT OF ENERGY

Federal Energy Regulatory Commission

Combined Notice of Filings

Take notice that the Commission has received the following Natural Gas Pipeline Rate and Refund Report filings:

Filings Instituting Proceedings

Docket Numbers: RP22-892-000.

Applicants: Cameron Interstate Pipeline, LLC.

Description: Annual Report of Penalty Revenues of Cameron Interstate Pipeline, LLC.

Filed Date: 4/29/22.

Accession Number: 20220429-5679.

Comment Date: 5 p.m. ET 5/11/22.

Docket Numbers: RP22-894-000.

Applicants: Cameron Interstate Pipeline, LLC.

Description: Annual Interruptible Transportation Revenue Sharing Report of Cameron Interstate Pipeline, LLC.

Filed Date: 4/29/22.

Accession Number: 20220429-5682.

Comment Date: 5 p.m. ET 5/11/22.

Docket Numbers: RP22-895-000.

Applicants: Cameron Interstate Pipeline, LLC.

Description: Operational Transactions Report of Cameron Interstate Pipeline, LLC.

Filed Date: 4/29/22.

Accession Number: 20220429-5683.

Comment Date: 5 p.m. ET 5/11/22.

Docket Numbers: RP22-898-000.

Applicants: Cameron Interstate Pipeline, LLC.

Description: Annual Operational Imbalances and Cash Out Activity Report for 2021 of Cameron Interstate Pipeline, LLC.

Filed Date: 4/29/22.

Accession Number: 20220429-5702.

Comment Date: 5 p.m. ET 5/11/22.

Docket Numbers: RP22-906-000.

Applicants: Cameron Interstate Pipeline, LLC.

Description: Annual Transportation Imbalances and Cash Out Activity Report for of Cameron Interstate Pipeline, LLC.

Filed Date: 4/29/22.

Accession Number: 20220429-5714.

Comment Date: 5 p.m. ET 5/11/22.

Docket Numbers: RP22-910-000.

Applicants: Gulf South Pipeline Company, LLC.

Description: § 4(d) Rate Filing: Cap Rel Neg Rate Agmt (Panda 624 to Tenaska 55334) to be effective 5/5/2022.

Filed Date: 5/5/22.

Accession Number: 20220505-5076.

Comment Date: 5 p.m. ET 5/17/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2022.
Kimberly D. Bose,
Secretary.

[FR Doc. 2022-10199 Filed 5-11-22; 8:45 am]

BILLING CODE 6717-01-P